DEPARTMENT OF TRANSPORTATION

Federal Aviation Administration

14 CFR Part 71

[Docket No. FAA-2010-0397; Airspace Docket No. 10-AAL-7]

RIN 2120-AA66

Establishment and Amendment of Area Navigation (RNAV) Routes; Alaska

AGENCY: Federal Aviation Administration (FAA), DOT.

ACTION: Final rule.

SUMMARY: This action establishes two and modifies four Area Navigation (RNAV) routes in Alaska. T and Q-routes are Air Traffic Service (ATS) routes, based on RNAV, for use by aircraft having instrument flight rules (IFR)-approved Global Positioning System (GPS)/Global Navigation Satellite System (GNSS) equipment, or Distance Measuring Equipment (DME)/DME Inertial Reference Unit (IRU) navigation capability. The FAA is taking this action to enhance safety and improve the efficient use of the navigable airspace in Alaska.

DATES: Effective date 0901 UTC, January 13, 2011. The Director of the Federal Register approves this incorporation by reference action under 1 CFR part 51, subject to the annual revision of FAA Order 7400.9 and publication of conforming amendments.

FOR FURTHER INFORMATION CONTACT: Ken McElroy, Airspace, Regulations and ATC Procedures Group, Office of Airspace Services, Federal Aviation Administration, 800 Independence Avenue, SW., Washington, DC 20591; telephone: (202) 267-8783.

History

On June 7, 2010, the FAA published in the Federal Register a notice of proposed rulemaking (NPRM) to establish and amend Area Navigation Routes in Alaska (75 FR 32120). Interested parties were invited to participate in this rulemaking effort by submitting written comments on the proposal. No comments were received. This amendment is the same as that proposed in the NPRM.

The Rule

This action amends Title 14 Code of Federal Regulations (14 CFR) part 71 establishing two RNAV T-routes, T-267 and T-271, and modifying three RNAV T-routes and one Q-route in Alaska. In response to comments received for a NPRM published February 12, 2009, (74 FR 7012), a new T-route (T-267) is established, which will circumvent the ocean near Kotzebue, AK, allowing IFR aircraft to fly closer to the shoreline. Also, one modified T-route continues south from Frederick's Point Non-directional Beacon, for connectivity between Juneau and Ketchikan, AK. Two T-routes are modified to allow lower minimum en route altitudes to be flown. Additionally, one Q-route is revised to provide a more direct route between Anchorage and Galena, AK. The RNAV routes described in this rule will enhance safety, and facilitate more flexible and efficient use of the navigable airspace for en route IFR operations in Alaska.

High Altitude RNAV routes are published in paragraph 2006, and Low Altitude RNAV routes are published in paragraph 6011, in FAA Order 7400.9U dated August 18, 2010, and effective September, 15, 2010, which is incorporated by reference in 14 CFR 71.1. The airspace designations listed in this document will be published subsequently in the Order.

The FAA has determined that this regulation only involves an established body of technical regulations for which frequent and routine amendments are necessary to keep them operationally current. Therefore, this regulation: (1) Is not a “significant regulatory action “under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it establishes and amends RNAV routes in Alaska.

Environmental Review

The FAA has determined that this action qualifies for categorical exclusion under the National Environmental Policy Act in accordance with FAA Order 1050.1E, Environmental Impacts: Policies and Procedures, paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9U, Airspace Designations and Reporting Points, dated August 18, 2010, and effective September 15, 2010, is amended as follows:

Paragraph 2006 United States Area Navigation Routes

* * * * *

Q-8 ANC to GAL [Revised]
GAL | VOR/DME | (Lat. 64°44′17″ N., long. 156°46′38″ W.)
ANC | VOR/DME | (Lat. 61°09′03″ N., long. 150°12′24″ W.)

* * * * *

Paragraph 6011 United States Area Navigation Routes

* * * * *

T-227 SYA to SCC [Modified]
SYA | VORTAC | (Lat. 52°43′06″ N., long. 174°03′44″ E.)
JANNT | WP | (Lat. 52°04′18″ N., long. 178°15′37″ W.)
BAERE | WP | (Lat. 52°12′12″ N., long. 176°08′09″ W.)
ALEUT | FIX | (Lat. 54°14′17″ N., long. 166°32′52″ W.)
MORDI | FIX | (Lat. 54°52′50″ N., long. 165°03′15″ W.)
GENFU | FIX | (Lat. 55°23′19″ N., long. 163°06′22″ W.)
BINAL | FIX | (Lat. 55°46′00″ N., long. 161°59′56″ W.)
PDN | NDB/DME | (Lat. 56°57′15″ N., long. 158°38′51″ W.)
BATTY | FIX | (Lat. 59°03′57″ N., long. 155°04′42″ W.)
AMOTT | FIX | (Lat. 60°53′56″ N., long. 151°21′46″ W.)
ANC | VOR/DME | (Lat. 61°09′03″ N., long. 150°12′24″ W.)
FAI | VORTAC | (Lat. 64°48′00″ N., long. 148°00′43″ W.)
SCC | VOR/DME | (Lat. 70°11′57″ N., long. 148°24′58″ W.)
* * * * * * *
T-266 CGL to ANN [Modified]
CGL | NDB | (Lat. 58°21′33″ N., long. 134°41′58″ W.)
FPN | NDB | (Lat. 56°47′32″ N., long. 132°49′16″ W.)
ANN | VOR/DME | (Lat. 55°03′37″ N., long. 131°34′42″ W.)
* * * * * * *
T-267 OME to OTZ [New]
OME | VOR/DME | (Lat. 64°29′06″ N., long. 165°15′11″ W.)
BALIN | FIX | (Lat. 64°33′55″ N., long. 161°34′32″ W.)
OTZ | VOR/DME | (Lat. 66°53′09″ N., long. 162°32′24″ W.)
* * * * * * *
T-271 CDB to AMOTT [New]
CDB | VORTAC | (Lat. 55°16′03″ N., long. 162°46′27″ W.)
BINAL | FIX | (Lat. 55°46′00″ N., long. 161°59′56″ W.)
AKN | VORTAC | (Lat. 58°43′29″ N., long. 156°45′08″ W.)
AMOTT | FIX | (Lat. 60°53′56″ N., long. 151°21′46″ W.)
* * * * * * *
T-273 FAI to ROCES [Modified]
FAI | VORTAC | (Lat. 64°48′00″ N., long. 148°00′43″ W.)
AYKID | FIX | (Lat. 65°50′58″ N., long. 147°16′34″ W.)
TUVVO | FIX | (Lat. 67°37′20″ N., long. 146°04′49″ W.)
ROCES | WP | (Lat. 70°08′34″ N., long. 144°08′16″ W.)

Issued in Washington, DC, on November 2, 2010.
Edith V. Parish,
Manager, Airspace, Regulations and ATC Procedures Group.

[FR Doc. 2010-28192 Filed 11-8-10; 8:45 am]

BILLING CODE 4910-13-P